DEPARTMENT OF THE INTERIOR

National Park Service

[NPS-WASO-NAGPRA-NPS0034876; PPWOCRADN0-PCU00RP14.R50000]

Notice of Inventory Completion: Warren Anatomical Museum, Harvard University, Boston, MA

AGENCY: National Park Service, Interior.

ACTION: Notice.

SUMMARY: The Peabody Museum of Archaeology and Ethnology and Warren Anatomical Museum, Harvard University have completed an inventory of human remains, in consultation with the appropriate Indian Tribes or Native Hawaiian organizations, and have determined that there is no cultural affiliation between the human remains and any present-day Indian Tribes or Native Hawaiian organizations. Representatives of any Indian Tribe or Native Hawaiian organization not identified in this notice that wish to request transfer of control of these human remains should submit a written request to the Peabody Museum of Archaeology and Ethnology, Harvard University. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Peabody Museum of Archaeology and Ethnology, Harvard University at the address in this notice by December 19, 2022.

FOR FURTHER INFORMATION CONTACT: Jane Pickering, William & Muriel Seabury Howells Director, Peabody Museum of Archaeology and Ethnology, Harvard University, 11 Divinity Avenue, Cambridge, MA 02138, telephone (617) 496-2374, email jpickering@fas.harvard.edu.

SUPPLEMENTARY INFORMATION: Notice is here given in accordance with the Native American Graves Protection and Repatriation Act (NAGPRA), 25 U.S.C. 3003, of the completion of an inventory of human remains under the control of the Warren Anatomical Museum, Harvard University, Boston, MA. The human remains were removed from Essex, Norfolk, and Suffolk Counties, MA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Peabody Museum of Archaeology and Ethnology and Warren Anatomical Museum professional staff in consultation with representatives of the Mashpee Wampanoag Tribe (previously listed as Mashpee Wampanoag Indian Tribal Council, Inc.); Narragansett Indian Tribe; Wampanoag Tribe of Gay Head (Aquinnah); and two non-federally recognized Indian groups: the Assonet Band of the Wampanoag Nation and the Massachusett-Ponkapoag Tribal Council (hereafter referred to as “The Consulted Tribes and Groups”).

History and Description of the Remains

Sometime before 1870, human remains representing, at minimum, one individual were removed from an unknown site in the town of Nahant, Essex County, MA, by Dr. Walter Channing. In December of 1883, J. Collins Warren donated the human remains to the Warren Anatomical Museum as part of the J. Mason Warren Collection. The human remains are the nearly complete cranial remains of an adult male. No known individual was identified. No associated funerary objects are present.

Sometime before 1850, human remains representing, at minimum, one individual were removed from an unknown site in the city of Salem, Essex County, MA, by an unknown person and were donated to the Warren Anatomical Museum by an unknown person. The human remains are the nearly complete cranial remains of an adult female. No known individual was identified. No associated funerary objects are present.

At an unknown date, human remains representing, at minimum, one individual were removed from an unknown site in the town of Milton, Norfolk County, MA, by Dr. John Edwards Holbrook. In December of 1883, J. Collins Warren donated the human remains to the Warren Anatomical Museum as part of the J. Mason Warren Collection. The human remains are the nearly complete cranial remains of an adult female. No known individual was identified. No associated funerary objects are present.

In June of 1861, human remains representing, at minimum, four individuals were removed from a burial site ten feet from the eastern edge of Long Island in Boston Harbor, Suffolk County, MA, by Dr. P.A. O'Connell of the United States Army. Dr. O'Connell sent the human remains to Dr. Henry G. Clark, who presented the human remains to the Warren Anatomical Museum in 1862. No known individuals were identified. No associated funerary objects are present.

The burials on Long Island were organized into a burial ground, arranged in rows, and the individuals were consistently buried in a flexed posture with the head directed to the south and without accompanying funerary objects. This contextual information suggests that these interments date to the Late Woodland period or later (i.e., post-1000 B.P.). The history of Long Island strongly indicates that during and after King Philip's War (A.D. 1675-1676) it served as a burial place for a population of New England Native American individuals that included, but was not limited to, the Massachusett and Pawtucket. During King Philip's War, Long Island was used as an internment camp for the so-called “Praying Indians” captured from the 14 towns within Massachusett and Pawtucket homelands. The internment of Praying Indians on Long Island, Deer Island, and other Boston Harbor islands ended in 1677, but not before many had died of starvation, disease, and exposure. During later historic periods, several other groups used Long Island for burials, at least some of whom may have included individuals of Native American ancestry. The burial places of these individuals may have been confused with burial places of Native American individuals in recorded histories, remembered histories, and during archeological and other island surveys.

Historical documents and consultation information demonstrate that areas of northeastern Massachusetts are the aboriginal land of the Wampanoag people. These same types of information also demonstrate that portions of Suffolk, Essex, Norfolk, and Middlesex Counties, MA, are the aboriginal land of the Massachusett and Pawtucket peoples, neither of whom are represented by any federally recognized Indian Tribe.

Determinations Made by the Peabody Museum of Archaeology and Ethnology and the Warren Anatomical Museum, Harvard University

Officials of the Peabody Museum of Archaeology and Ethnology and the Warren Anatomical Museum, Harvard University have determined that:

• Pursuant to 25 U.S.C. 3001(9), the human remains described in this notice are Native American based on osteological analysis, archeological context, and museum records.

• Pursuant to 25 U.S.C. 3001(9), the human remains described in this notice represent the physical remains of seven individuals of Native American ancestry.

• Pursuant to 25 U.S.C. 3001(2), a relationship of shared group identity cannot be reasonably traced between the Native American human remains and any present-day Indian Tribe.

• Treaties, Acts of Congress, or Executive Orders, indicate that the land from which the Native American human remains were removed is the aboriginal land of the Mashpee Wampanoag Tribe (previously listed as Mashpee Wampanoag Indian Tribal Council, Inc.) and the Wampanoag Tribe of Gay Head (Aquinnah) (hereafter referred to as “The Tribes”).

• Pursuant to 43 CFR 10.11(c)(1), the disposition of the human remains may be to The Tribes.

Additional Requestors and Disposition

Representatives of any Indian Tribe or Native Hawaiian organization not identified in this notice that wish to request transfer of control of these human remains should submit a written request with information in support of the request to Jane Pickering, William & Muriel Seabury Howells Director, Peabody Museum of Archaeology and Ethnology, Harvard University, 11 Divinity Avenue, Cambridge MA 02138, telephone (617) 496-2374, email jpickering@fas.harvard.edu, by December 19, 2022. After that date, if no additional requestors have come forward, transfer of control of the human remains to The Tribes may proceed.

The Peabody Museum of Archaeology and Ethnology on behalf of the Warren Anatomical Museum, Harvard University is responsible for notifying The Consulted Tribes and Groups that this notice has been published.

Dated: November 9, 2022.
Melanie O'Brien,
Manager, National NAGPRA Program.

[FR Doc. 2022-25125 Filed 11-17-22; 8:45 am]

BILLING CODE 4312-52-P